DEPARTMENT OF THE INTERIOR

Bureau of Land Management

[CA-350-1820-AE]

Notice of Resource Advisory Council Meeting

AGENCY: Bureau of Land Management, Interior, Northeast California Resource Advisory Council, Cedarville, California.

ACTION: Notice of meeting.

SUMMARY: Pursuant to the authorities in the Federal Advisory Committees Act (Public Law 92-463) and the Federal Land Policy and Management Act (Public Law 94-579), the U.S. Bureau of Land Management's Northeast California Resource Advisory Council will meet Thursday and Friday, July 11 and 12, 2002, at the BLM Surprise Field Office, 602 Cressler St., Cedarville, California.

SUPPLEMENTARY INFORMATION: The meeting begins Thursday, July 11, at 9 a.m. at the Surprise Field Office. Members will convene, then depart for a field tour in the Homecamp area. On Friday, July 12, the business meeting begins at 8 a.m. in the Conference Room of the Surprise Field Office. Agenda items include sage grouse conservation planning, the Homecamp land acquisition proposal, land use planning for the Black Rock Desert-High Rock Canyon-Emigrant Trails National Conservation Area, and development of a juniper management strategy. Time will be set aside at 1 p.m. for public comments. Depending on the number of persons wishing to address the council, a time limit could be established.

FOR FURTHER INFORMATION: Contact BLM Alturas Field Manager Tim Burke at (530) 257-4666, or Public Affairs Officer Joseph J. Fontana, (530) 252-5332.

Joseph J. Fontana,
Public Affairs Officer.

[FR Doc. 02-15204 Filed 6-14-02; 8:45 am]

BILLING CODE 4310-40-P